FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 9, 2017.

A. Federal Reserve Bank of Dallas (Robert L. Triplett III, Senior Vice President) 2200 North Pearl Street, Dallas, Texas 75201-2272:

1. Asif M. Dakri and Faizel M. Dakri, Houston, Texas; to acquire voting shares of Wallis Bancshares, Inc. (“Wallis Bancshares”), Houston, Texas, and thereby indirectly acquire voting shares of Wallis State Bank, Wallis, Texas; and Musa A. Dakri, Asif M. Dakri, Faizel M. Dakri, the Dakri Family 2012 GST Trust for Asif M. Dakri, and the Dakri Family 2012 GST Trust for Faizel M. Dakri, all of Houston Texas, as a group acting in concert, to acquire voting shares of Wallis Bancshares.

B. Federal Reserve Bank of Minneapolis (Jacquelyn K. Brunmeier, Assistant Vice President) 90 Hennepin Avenue, Minneapolis, Minnesota 55480-0291:

1. James Richard Sankovitz, Chaska, Minnesota; individually and as trustee of the Irrevocable Trust Agreement for the benefit of Katherine M. Buland (“Buland Trust”), to acquire voting shares of Frankson Investment Corporation (“Frankson”), and thereby indirectly acquire shares of The First National Bank of Waseca, all of Waseca, Minnesota; and the Buland Trust (James Sankovitz, Thomas Sankovitz, and Ann Gaytko, as trustees) and Bernard Gaytko, Waseca, Minnesota, to retain voting shares of Frankson and join the Sankovitz family shareholder group which was previously approved to control Frankson, as a group acting in concert.

Board of Governors of the Federal Reserve System, April 18, 2017.
Ann E. Misback,
Secretary of the Board.

[FR Doc. 2017-08150 Filed 4-21-17; 8:45 am]

BILLING CODE 6210-01-P